DEPARTMENT OF HEALTH AND HUMAN SERVICES

Centers for Disease Control and Prevention

[Program Announcement 03030]

Controlling Asthma in American Cities Project Phase II Intervention Implementation Amendment

A notice announcing the availability of Fiscal Year (FY) 2003 funds for a cooperative agreement program building on the planning phase of the Controlling Asthma in American Cities Project was published in the Federal Register, June 6, 2003, Volume 68, Number 109, pages 33952-33955.

The notice is amended as follows: Page 33952, Section D. Funding, delete the sentence, “It is expected that the awards will begin on or about September 15, 2003 and will be made for a 12-month budget period within a project period of up to five years.” Replace with, “It is expected that the awards will begin on or about September 15, 2003 and will be made for a nine-month budget period for the first year that will end June 15, 2004. Future budget periods will be 12 months, and will begin on June 16 of every year, and run through June 15 of the following year, for a project period of up to five years.”

Dated: September 5, 2003.
Sandra R. Manning,
Director, Procurement and Grants Office, Center for Disease Control and Prevention.

[FR Doc. 03-23157 Filed 9-10-03; 8:45 am]

BILLING CODE 4163-18-P